DEPARTMENT OF TRANSPORTATION

Pipeline and Hazardous Materials Safety Administration

[Docket No. PHMSA-2014-0138, Notice No. 14-14]

International Standards on the Transport of Radioactive Material

AGENCY: Pipeline and Hazardous Materials Safety Administration (PHMSA), DOT.

ACTION: Notice of public meeting.

SUMMARY: This notice is to advise interested persons that on Tuesday, February 24, 2015, PHMSA will conduct a public meeting seeking comments on issues or problems concerning requirements in the International Atomic Energy Agency (IAEA) Regulations for the Safe Transport of Radioactive Material (referred to as SSR-6). The IAEA is considering revisions to the SSR-6 regulations as part of its periodic two-year review cycle which may lead to a revised 2017 Edition.

DATES: Time and Location: The meeting will be held at the DOT Headquarters Conference Center, West Building, 1200 New Jersey Avenue SE., Washington, DC 20590 from 9:00 a.m. to 12:00 noon EST, Conference Room 7.

Advanced Meeting Registration: DOT requests that attendees pre-register for these meetings by completing the form at https://www.surveymonkey.com/r/MRJVYX2. Failure to pre-register may delay your access to the DOT Headquarters building. If participants are attending in person, arrive early to allow time for security checks necessary to obtain access to the building.

Conference call-in and “live meeting” capability will be provided for the meeting. Specific information on call-in and live meeting access will be posted when available at http://www.phmsa.dot.gov/hazmat/regs/international.

FOR FURTHER INFORMATION CONTACT: Mr. Steven Webb, Standards and Rulemaking Division, telephone 202/366-8553, or Mr. Michael Conroy, Engineering and Research Division, telephone 202/366-4545, Pipeline and Hazardous Materials Safety Administration, U.S. Department of Transportation, 1200 New Jersey Avenue SE., 2nd Floor, Washington, DC 20590-0001.

SUPPLEMENTARY INFORMATION: The primary purpose of PHMSA's meeting will be to ensure the opportunity for public participation in the international regulatory development process. PHMSA intends to utilize this meeting with interested stakeholders to identify issues or problems with the 2012 edition of the SSR-6. The 2012 edition of SSR-6 is available online at http://www-pub.iaea.org/MTCD/publications/PDF/Pub1570_web.pdf.

PHMSA requests that participants wishing to raise issues concerning the SSR-6 be prepared to provide the following information:

• Description of issue.

• Summary of proposed solution.

• Parties affected by the issue (particular industry or other group).

• Justification of change—State expected safety benefit, (negligible, low, medium or high).

• Expected cost of implementation (negligible, low, medium or high).

• Existing IAEA regulatory text and proposed revised regulatory text.

• Existing IAEA advisory text and proposed revised advisory text.

• Any proposed transitional arrangements, if needed.

This information, and any associated discussions, will assist the DOT to consider the full range of views and alternatives as the agency develops proposals to be submitted to the IAEA for consideration. The DOT has not yet fully harmonized their US regulations with the 2012 edition of SSR-6 and will follow their normal rulemaking procedures in any action to harmonize requirements for domestic and international transportation of radioactive materials. This call for input to the IAEA process is separate from any future domestic rulemakings.

Signed at Washington, DC, on January 30, 2015.
Magdy El-Sibaie,
Associate Administrator for Hazardous Materials Safety.

[FR Doc. 2015-02222 Filed 2-4-15; 8:45 am]

BILLING CODE 4910-60-P